DEPARTMENT OF THE INTERIOR

Geological Survey

[GX15EB00A181100]

Agency Information Collection Activities: Request for Comments

AGENCY: U.S. Geological Survey (USGS), Interior.

ACTION: Notice of a revision of a currently approved information collection (1028-0085).

SUMMARY: We (the U.S. Geological Survey) will ask the Office of Management and Budget (OMB) to approve the information collection (IC) described below. As required by the Paperwork Reduction Act (PRA) of 1995, and as part of our continuing efforts to reduce paperwork and respondent burden, we invite the general public and other Federal agencies to take this opportunity to comment on this IC. This collection is scheduled to expire on September 30, 2015.

DATES: To ensure that your comments are considered, we must receive them on or before June 1, 2015.

ADDRESSES: You may submit comments on this information collection to the Information Collection Clearance Officer, U.S. Geological Survey, 12201 Sunrise Valley Drive MS 807, Reston, VA 20192 (mail); (703) 648-7197 (fax); or gs-info_collections@usgs.gov (email). Please reference `Information Collection 1028-0085 National Land Remote Sensing Education, Outreach and Research Activity' in all correspondence.

FOR FURTHER INFORMATION CONTACT: Sarah Cook, Land Remote Sensing Program, U.S. Geological Survey, 12201 Sunrise Valley Drive, Mail Stop 516, Reston, VA 20192 (mail); 703-648-6136 (phone); or scook@usgs.gov (email). You may also find information about this ICR at www.reginfo.gov.

SUPPLEMENTARY INFORMATION:

I. Abstract

The Land Remote Sensing Education, Outreach and Research Activity (NLRSEORA) is an effort that involves the development of a U.S. National consortium in building the capability to receive, process and archive remotely sensed data for the purpose of providing access to university and State organizations in a ready-to-use format; and to expand the science of remote sensing through education, research/applications development and outreach in areas such as environmental monitoring, climate change research, natural resource management and disaster analysis. Respondents are submitting proposals to acquire funding for a National (U.S.) program to promote the uses of space-based land remote sensing data and technologies through education and outreach at the State and local level and through university-based and collaborative research projects. The information collected will ensure that sufficient and relevant information is available to evaluate and select a proposal for funding. A panel of USGS Land Remote Sensing Program managers and scientists will review each proposal to evaluate the technical merit, requirements, and priorities identified in the Program's call for proposals.

This notice concerns the collection of information that is sufficient and relevant to evaluate and select proposals for funding. We will protect information from respondents considered proprietary under the Freedom of Information Act (5 U.S.C. 552) and its implementing regulations (43 CFR part 2), and under regulations at 30 CFR 250.197, “Data and information to be made available to the public or for limited inspection.” Responses are voluntary. No questions of a “sensitive” nature are asked. We intend to release the project abstracts and primary investigators for awarded/funded projects only.

II. Data

OMB Control Number: 1028-0085.

Form Number: NA.

Title: National Land Remote Sensing Education, Outreach and Research Activity (NLRSEORA).

Type of Request: New information collection.

Affected Public: Non-profit organizations.

Respondent's Obligation: Voluntary (necessary to receive benefits).

Frequency of Collection: Once per year.

Estimated Total Number of Annual Responses: Approximately 5 applications.

Estimated Time per Response: We expect to receive approximately 5 applications per year, taking each applicant approximately 24 hours to complete, totaling 120 burden hours. We anticipate awarding one (1) grant per year. The grantee will be required to submit an interim Annual Progress Report to the designated USGS Project Officer within 90 days of the end of the project period and a final report on or before 90 working days after the expiration of the agreement.

Estimated Annual Burden Hours: 120 hours per year.

Estimated Reporting and Recordkeeping “Non-Hour Cost” Burden: There are no “non-hour cost” burdens associated with this IC.

Public Disclosure Statement: The PRA (44 U.S.C. 3501, et seq.) provides that an agency may not conduct or sponsor and you are not required to respond to a collection of information unless it displays a currently valid OMB control number and current expiration date.

III. Request for Comments

We are soliciting comments as to: (a) Whether the proposed collection of information is necessary for the agency to perform its duties, including whether the information is useful; (b) the accuracy of the agency's estimate of the burden of the proposed collection of information; (c) ways to enhance the quality, usefulness, and clarity of the information to be collected; and (d) how to minimize the burden on the respondents, including the use of automated collection techniques or other forms of information technology.

Please note that the comments submitted in response to this notice are a matter of public record. Before including your personal mailing address, phone number, email address, or other personally identifiable information in your comment, you should be aware that your entire comment, including your personally identifiable information, may be made publicly available at any time. While you can ask us in your comment to withhold your personally identifiable information from public view, we cannot guarantee that we will be able to do so.

Timothy R. Newman,
Program Coordinator, Land Remote Sensing Program, U.S. Geological Survey.

[FR Doc. 2015-07344 Filed 3-31-15; 8:45 am]

BILLING CODE 4311-AM-P